FEDERAL HOUSING FINANCE BOARD

[No. 2000-N-2]

Prices for Federal Home Loan Bank Services

AGENCY: Federal Housing Finance Board.

ACTION: Notice of prices for Federal Home Loan Bank Services.

SUMMARY: The Federal Housing Finance Board (Board) is publishing the prices charged by the Federal Home Loan Banks (Banks) for processing and settlement of items (negotiable order of withdrawal or NOW), and demand deposit accounting (DDA) and other services offered to members and other eligible institutions.

EFFECTIVE DATE: March 6, 2000.

FOR FURTHER INFORMATION CONTACT: Gwen R. Grogan, Associate Director, Office of Supervision (202) 408-2892; or Edwin J. Avila, Financial Analyst, (202) 408-2871; Federal Housing Finance Board, 1777 F Street, N.W., Washington, DC 20006.

SUPPLEMENTARY INFORMATION: Section 11(e) of the Federal Home Loan Bank Act (Bank Act) (12 U.S.C. 1431(e)) authorizes the Banks: (1) to accept demand deposits from member institutions; (2) to be drawees of payment instruments; (3) to engage in collection and settlement of payment instruments drawn on or issued by members and other eligible institutions; and (4) to engage in such incidental activities as are necessary to the exercise of such authority. Section 11(e)(2)(B) of the Bank Act (12 U.S.C. 1431(e)(2)(B)) requires the Banks to make charges for services authorized in that section, which charges are to be determined and regulated by the Board.

Section 975.6(c) of the Board's regulations (12 C.F.R. 975.6(c)) provides for the annual publication in the Federal Register of all prices for Bank services. The following fee schedules are for the Banks which offer item processing services to their members and other qualified financial institutions. Most of the remaining Banks provide other Correspondence Services which may include securities safekeeping, disbursements, coin and currency, settlement, electronic funds transfer, etc. However, these Banks do not provide services related to processing of items drawn against or deposited into third party accounts held by their members or other qualified financial institutions.

District 1.—Federal Home Loan Bank of Boston (2000 NOW/DDA Services)

(Services not provided)

District 2.—Federal Home Loan Bank of New York (2000 NOW/DDA Services)

(Does not provide item processing services for third party accounts)

District 3.—Federal Home Loan Bank of Pittsburgh (2000 NOW/DDA Services)

Deposit Processing Service (DPS)

Effective 1/1/2000

DPS Deposit Tickets $0.6500 per deposit

Printing of Deposit Tickets Pass-through

Deposit Items Processed
[Pricing varies—tiered by monthly volume]
For volumes of | Per item (transit)
1-25,000 | $0.0407
25,001-58,500 | 0.0402
58,501-91,500 | 0.0397
91,501-125,000 | 0.0392
125,001-158,500 | 0.0377
158,501-191,500 | 0.0357
191,501 and over | 0.0327

Deposit Items Encoded (West)
[Pricing varies—tiered by monthly volume]
For volumes of | Per item
1-25,000 | $0.0398
25,001-58,500 | 0.0394
58,501-91,500 | 0.0390
91,501-125,000 | 0.0386
125,001-158,500 | 0.0373
158,501-191,500 | 0.0368
191,501 and over | 0.0363

Deposit Items Encoded (East)
[Pricing varies—tiered by monthly volume]
For volumes of | Per item
1-25,000 | $0.0352
25,001-58,500 | 0.0347
58,501-91,500 | 0.0342
91,501-125,000 | 0.0337
125,001-158,500 | 0.0322
158,501-191,500 | 0.0312
191,501 and over | 0.0306

Deposit Items Returned | $18.0000 | per item
Deposit Items Photocopied | 3.9500 | per photocopy
DPS Photocopies—Subpoena | 21.0000 | per hour of processing time,
plus | 0.3000 | per photocopy
Deposit Items Rejected (applicable to pre-encoded deposits only) | 0.2300 | per rejected item
Canadian Item Processing | 5.2500 | per item
All Foreign Collection Charges (Includes Foreign Collection Fees, Bought Foreign Collection Fees, Foreign Bank Processing Charges, and Foreign Check Courier Charges) |  | pass-through
Adjustments on DPS Deposits (applicable to pre-encoded deposits only) | 3.00 | per adjustment
Foreign Return Check Fee | 35.0000 | per item
DPS Transportation (West) | 9.9500 | per pickup
DPS Transportation (East) | 9.9500 | per pickup
Return Check Courier Service | 145.0000 | per month

Depository Account Services

On—US Returns Deposited:
Qualified Returns | $1.2000 | per item
Raw Returns | 4.5000 | per item
Mail Deposits | 5.7500 | per deposit
Bond Collection:
Bearer | 40.0000 | per bond
Registered | 50.0000 | per bond
Bond Coupon Collection | 8.2500 | per envelope
Bond Coupon Returns | 32.0000 | per coupon
Deposit Transfer Vouchers | 5.7500 | per item

Electronic Funds Transfers

Incoming Wire Transfers | $6.2500 | per transfer
Outgoing Wire Transfers (LINK) | 7.0000 | per transfer
Outgoing Wire Transfers (Manual) | 10.7500 | per transfer
Fax of Wire Transfer Advice | 3.7500 | per transfer
Internal Book Transfers (LINK) |  | No Charge
Internal Book Transfers (Manual) | 1.1500 | per transfer
Foreign Wire Surcharge | 33.0000 | ′ *
Foreign Wire Tracers |  | pass-through
Mortgage Participation Service Fee | 3.2000 | per transfer
Expected Wires Not Received |  | penalty assessed **
* This surcharge will be added to the amount of the outgoing funds transfer to produce a single total debit to be charged to the customer's account on the date of transfer.
** Standard penalty is equivalent to the amount of the wire(s) times the daily IOD rate, divided by 360. If the wire not received causes the Bank to suffer any penalty, deficiency, or monetary loss, any and all related costs will also be assessed.

Automated Clearing House

ACH Transaction Settlement (CR/DR) | $0.3000 | per transaction
ACH Cleared Through FHLB (CR/DR) | 0.4000 | per transaction
ACH Origination Items (CR/DR) | 0.2200 | per item
ACH Origination Record Set-Up | 1.7500 | per record
ACH Origination Items Returned | 6.0000 | per returned item
ACH Returns/NOCs—Facsimile | 2.5000 | per transaction
ACH Returns/NOCs—Telephone | 4.0000 | per transaction
ACH/FRB Priced Service Charges | 0.3000 | per transaction

Federal Reserve Settlement

FRB Statement Transaction (CR/DR) | $0.6000 | per transaction
Reserve Requirement Pass-Thru | 32.5000 | per month (active)
Correspondent Transaction (DR) | 0.6000 | per transaction
Direct Send Settlement | 152.5000 | per month
FRB Inclearing Settlement | 152.5000 | per month
FRB Coin & Currency Settlement | 50.0000 | per month

Demand Deposit Services

Clearing Items Processed | $0.1600 | per item
Clearing Items Fine Sorted (for return with Bank statements) | 0.0800 | per item
Reconcilement Copies—Manual | 0.1100 | per copy
Reconcilement Copies—MagTape | 0.0540 | per copy
Reconcilement MagTape Processing |  | Pass-through
Reconcilement Copies—Voided | 0.0450 | per copy
Check Photocopies—Mail | 4.0000 | per photocopy
Check Photocopies—Telephone/Fax | 4.8500 | per photocopy
Check Photocopies—Subpoena | 0.7200 | per photocopy
Stop Payment Orders | 18.0000 | per item
Stop Payment Cancellations | 9.0000 | per cancelled item
FRB Return Items Processed | 0.4500 | per item
FRB Return Items Qualified | 0.2700 | per item
FRB Return Items Over $2,500 | 6.0000 | per item
Collections & Forgeries | 18.0000 | per item
Check Imprinting |  | Pass-through
Request for Fax / Photocopy | 5.0000 | per document/page

Check Processing (Inclearing)

Checks Processed
[Pricing varies—tiered by monthly volume]
For volumes of | Per item
1-25,000 | $0.0469
25,001-58,500 | 0.0444
58,501-91,500 | 0.0417
91,501-125,000 | 0.0391
125,001-158,500 | 0.0362
158,501-191,500 | 0.0336
191,501-350,000 | 0.0298
350,001-500,000 | 0.0272
500,001 and over | 0.0247

Full Backroom Service

(Item Processing Charges)

Non-Truncated Checks
[Pricing varies—tiered by monthly volume]
For volumes of | Per item
1-25,000 | $0.0610
25,001-58,500 | 0.0600
58,501-91,500 | 0.0580
91,501-125,000 | 0.0565
125,001-158,500 | 0.0550
158,501-191,500 | 0.0535
191,501-350,000 | 0.0515
350,001-500,000 | 0.0475
500,001 and over | 0.0445

Truncated Checks
[Pricing varies—tiered by monthly volume]
For volumes of | Per item
1-25,000 | $0.0510
25,001-58,500 | 0.0500
58,501-91,500 | 0.0480
91,501-125,000 | 0.0465
125,001-158,500 | 0.0450
158,501-191,500 | 0.0435
191,501-350,000 | 0.0415
350,001-500,000 | 0.0375
500,001 and over | 0.0345

Modified Backroom Service

(Item Processing Charges)

Non-Truncated Checks
[Pricing varies—tiered by monthly volume]
For volumes of: | Per item
1-25,000 | $0.0510
25,001-58,500 | 0.0500
58,501-91,500 | 0.0480
91,501-125,000 | 0.0465
125,001-158,500 | 0.0450
158,501-191,500 | 0.0435
191,501-350,000 | 0.0415
350,001-500,000 | 0.0375
500,001 and over | 0.0345

Truncated Checks
[Pricing varies—tiered by monthly volume]
For volumes of | Per item
1-25,000 | $0.0410
25,001-58,500 | 0.0400
58,501-91,500 | 0.0380
91,501-125,000 | 0.0365
125,001-158,500 | 0.0350
158,501-191,500 | 0.0335
191,501-350,000 | 0.0315
350,001-500,000 | 0.0275
500,001 and over | 0.0245

Image Services

Proof of Deposit (POD) Service

Pricing for each of these premium services is customer-specific, based upon individual service requirements; please call your Relationship Officer at (800) 288 3400 for further information.

Check Processing (Associated Services)

Unidentified Items Processed | $2.0000 | per item.
Over-The-Counter Items | 0.1950 | per item.
OTC Item Transportation | 10.2500 | per month.
Special Cycle Sorting | 0.0240 | per item.
Mid-Cycle Statement (Purged) | 0.5700 | per item (Min $2.85).
Mid-Cycle Stmt. (Non-Purged) | 2.8500 | per statement.
Statement Printing | 0.0300 | per page.
Statement Processing:
Statements using Generic Envelopes | 0.0650 | per envelope.
Statements using Custom Envelopes | 0.1100 | per envelope.
Statements using Large Envelopes | 0.6650 | per envelope.
Envelope Destruction Fee | 0.0300 | per envelope.
Additional Stuffer Processing | 0.0285 | per stuffer (one stuffer per statement free—applicable to all additional stuffers).
Selective Stuffer Processing | 0.1100 | per statement.
Daily Report Postage |  | Pass-through.
Statement Postage |  | Pass-through.
Standard Return Calls | 1.5000 | per item.
Automated Return Calls | 0.2950 | per item.
Return Calls via Link | 0.7900 | per item.
Late Return Calls | 5.2500 | per item.
FRB Return Items Processed | 0.4500 | per item.
FRB Return Items Qualified | 0.2700 | per item.
FRB Return Items Over $2,500 | 6.0000 | per item.
Suspect Item Processing | 5.2500 | per suspect item.
Check Photocopies—Mail | 4.0000 | per photocopy.
Check Photocopies—Telephone/Fax | 4.8500 | per photocopy.
Check Photocopies—Subpoena | 0.7200 | per photocopy.
Signature Verification Copies | 0.8500 | per copy.
Check Retrieval | 1.8000 | per item.
MICRSort Option (Fixed Fee) | 28.2500 | per month.
MICRSort Option (per item) | 0.0330 | per item.
Collections & Forgeries | 18.0000 | per item.
MCPJ Microfiche Service | 0.00225 | per item.
(Min. $20.00, Max. $125.00) |  | Pass-through
Transportation |  |

Coin and Currency Service

Western Service Area

Cash Orders | $2.5000 | per order, plus:
Currency Orders | 0.3450 | per $1,000 *.
Coin Orders | 2.8000 | per box.
Currency Deposits | 1.4000 | per $1,000 *.
Coin Deposits | 2.0000 | per standard bag.
Coin Deposits (Non-Standard) | 3.0000 | per non-standard bag.
Coin Deposits (Unsorted) | 9.0000 | per mixed bag.
Food Stamp Deposits | 2.0000 | per $1,000 *.
Late Order Surcharge | 10.0000 | per order.
Coin Shipment Surcharge | 0.2800 | per excess bag **.
C&C Transportation (Zone W1) | 18.5000 | per stop.
C&C Transportation (Zone W2) | 30.5000 | per stop.
C&C Transportation (Zone W3) | 42.5000 | per stop.
C&C Transportation (Zone W4) |  | Negotiable***.
* Charges will be applied to each $1,000 ordered or deposited, and to any portion of a shipment not divisible by that standard unit.
** A surcharge will apply to each container (box/bag) of coin in an order/delivery after the first 20 containers.
*** Reserved for remote locations: delivery charges will be negotiated with the courier service on an individual basis.

Coin and Currency Service

Eastern Service Area

Cash Orders | $2.5000 | per order, plus.
Currency Orders | 0.3450 | per $1,000 *.
Coin Orders | 3.0500 | per box.
Currency Deposits | 1.4000 | per $1,000 *.
Coin Deposits | 2.0000 | per standard bag.
Coin Deposits (Non-Standard) | 3.0000 | per non-standard bag.
Coin Deposits (Unsorted) | 9.0000 | per mixed bag.
Food Stamp Deposits | 2.0000 | per $1,000 *.
Late Order Surcharge | 10.0000 | per order.
Coin Shipment Surcharge | 0.2800 | per excess bag **.
C&C Transportation (Zone E1) | 27.4000 | per stop.
C&C Transportation (Zone E2) | 38.2000 | per stop.
C&C Transportation (Zone E3) | 55.0000 | per stop.
C&C Transportation (Zone E4) |  | Negotiable***.

Account Maintenance

Demand Deposit Accounts | $22.5000 | per month, per account.
Cut-off Statements | 12.5000 | per statement.
Telephone Inquiry | 2.3000 | per telephone call.
Paper Advice of Transactions (DTS) | 32.5000 | per account, per month.
Daily Transaction Data via LINK |  | No Charge.

Monthly Minimum Charges

The Bank reserves the right to impose a monthly minimum charge for its services. The standard minimum will be $2,000 per month, applied against Check Processing, Deposit Processing, and/or Proof of Deposit Services. Pass-through items, such as postage and transportation, do not apply.

Account Overdraft Penalty

Greater of $75.00 per day and the daily interest on the amount of the overdraft.

(Rate used for calculation equal to the highest posted advance rate plus 3.0%.)

Requests for Programming Changes

Programming support for new services, enhancements to existing service levels, or servicer conversions requiring at least one hour of programmer time and/or equivalent FHLB expenses will be charged at a rate of $100.00 per hour, plus expenses.

Attention: Customers Receiving Transportation Charges Under Any Service

Rates and charges relative to transportation vary depending on the location of the office(s) serviced. Details regarding the pricing for the transportation to/from specific institutions or individual locations will be provided upon their subscription to that service.

Surcharges may be applicable and will be applied to the customer as effective and without prior notice.

District 4.—Federal Home Loan Bank of Atlanta (2000 NOW/DDA Services)

(Does not provide item processing services for third party accounts)

District 5.—Federal Home Loan Bank of Cincinnati (2000 NOW/DDA Services)

(Does not provide item processing services for third party accounts)

District 6.—Federal Home Loan Bank of Indianapolis (2000 NOW/DDA Services)

Fee Schedules

Checking Account Processing

I. Checking Account Service Transaction Charges
[Effective February 1, 2000]
Monthly volume | Safekeeping (per item) | Turnaround (daily or cycled) (per item) | Complete (per item) | Full service image\*\: per item | Full service image\*\: per statement | Limited service image\*\: per item | Limited service image\*\: per statement
0-5,000 | $.054 | $.0675 | $.0875 | $.06 | $.40 | $.02 | $.40
5-10,000 | .046 | .0625 | .0855 | .06 | .40 | .02 | .40
10-15,000 | .045 | .0585 | .0835 | .06 | .40 | .02 | .40
15-25,000 | .040 | .0515 | .0825 | .06 | .40 | .02 | .40
25-50,000 | .039 | .0475 | .0805 | .06 | .40 | .02 | .40
50-75,000 | .035 | .0445 | .0765 | .06 | .40 | .02 | .40
75-100,000 | .032 | .0415 | .0755 | .06 | .40 | .02 | .40
100 and up | .030 | .0385 | .0745 | .06 | .40 | .02 | .40
Minimum processing fee of $40.00 per month will apply for total NOW services. Also included in the above fees—at no additional cost are Federal Reserve fees, incoming courier fees, software changes, disaster recovery, envelope discount and inventory.
* Image Monthly Maintenance Fee of $4500.00 for 0-32% of accounts; $300.00 for 33-49% of accounts; and $200.00 for 50%+ will be assessed for Image Statements.

II. Ancillary Service Fees
Large Dollar Signature Verification | $0.75
Over-the-counters and Microfilm | 0.045
Return Items | 2.40
Photocopies * and Facsimiles | 2.50
Certified Checks | 1.00
Invalid Accounts | 0.65
Late Returns | 0.50
Invalid Returns | 0.50
No MICR/OTC | 0.50
Settlement Only (per month) | 100.00
+Journal Entries (each) | 3.00
Encoding Errors | 2.75
Fine Sort Numeric Sequence | 0.02
Access to Infoline (per month) | 50.00
High Dollar Return Notification | N/C
Debit Entries | N/C
Credit Entries | N/C
Standard Stmt. Stuffers (up to 2)** | N/C
Statement Stuffing Savings (Non DDA Accounts) | 0.20
Minimum processing fee of $40.00 per month will apply for total NOW services. Also included in the above fees—at no additional cost are Federal Reserve fees, incoming courier fees, software changes, disaster recovery, envelope discount and inventory.
* Photocopy request of 50 or more are charged at an hourly rate of $15.00.
** Each additional (over 2) will be charged at $.02 per statement.

b. Demand Deposits Accounts/ACH

ITEM PROCESSING SERVICE FEES

Demand deposit clearings will have the following service charges:

Cash Management Service
Stop payments | 6.00 | per stop.
Photocopies | 2.50 | per copy.
Collection/Return/Exception | 5.00 |
Daily Statement | 2.00 |
Maintenance | 30.00 | per month.
Debit Entries | N/C |
Credit Entries | N/C |
ACH Fees:
Tape transmission or originations | $8.50 | per tape.
NACHA, MPX |  | Actual Federal Reserve charges.
ACH entries clearing through our R&T number | .25 | per item.
Settlement only | 65.00 | per month.
ACH returns/NOC | 2.50 | per item.
Collected balances will earn interest at CMS daily-posted rate.
Prices effective April 1, 1993.

c. Deposit Services

Federal Home Loan Bank of Indianapolis
Pre-encoded Items:
City | $0.045 | per item.
RCPC | .055 | per item.
Other Districts | .09 | per item.
Unencoded | .15 | per item.
Food Stamp | .14 | per item.
Photocopies | 2.50 | per copy.
Adjustments on pre-encoded work | 2.75 | per error.
E Z Clear | .14 | per item.
Coupons | 8.25 | per envelope.
Collections | 6.00 | per item.
Cash Letter | 2.00 | per cash letter.
Deposit Adjustments | 2.00 | per adjustment.
Debit Entries |  | N/C.
Credit Entries |  | N/C.
Microfilming |  | N/C.
Mortgage Remittance (Basic Service) | .35 |
Settlement only | 100.00 | per month.
+ Journal Entries | 3.00 | each.
Courier:
Indianapolis (city) | 8.25 | per location, per day, per pickup.
Outside Indianapolis |  | prices vary per location
N/C No Charge.

District 7.—Federal Home Loan Bank of Chicago (2000 NOW/DDA Services)

(Does not provide item processing services for third party accounts)

District 8.—Federal Home Loan Bank of Des Moines (2000 NOW/DDA Services)

(Does not provide item processing services for third party accounts)

District 9.—Federal Home Loan Bank of Dallas (2000 NOW/DDA Services)

(Does not provide item processing services for third party accounts)

District 10.—Federal Home Loan Bank of Topeka (2000 NOW/DDA Services)

(Does not provide item processing services for third party accounts)

District 11.—Federal Home Loan Bank of San Francisco (2000 NOW/DDA services)

(Does not provide item processing services for third party accounts)

District 12.—Federal Home Loan Bank of Seattle (2000 NOW/DDA Services)

(Does not provide item processing services for third party accounts)

By the Federal Housing Finance Board.
William W. Ginsberg,
Managing Director.

[FR Doc. 00-5274 Filed 3-3-00; 8:45 am]

BILLING CODE 6725-01-P